DEPARTMENT OF ENERGY

Federal Energy Regulatory Commission

[Project No. 2195-011]

Clackamas River Hydroelectric Project, Portland General Electric Company Clackamas County, Oregon; Notice of Availability of the Final Enivironmental Impact Statement for the Clackamas River Hydroeletric Project

December 21, 2006.

In accordance with the National Environmental Policy Act of 1969 and the Federal Energy Regulatory Commission (Commission or FERC) regulations contained in the Code of Federal Regulations (CFR)(18 CFR Part 380 [FERC Order No. 486, 52 FR 47897]) the Office of Energy Projects staff (staff) reviewed the application for a New Major License for the Clackamas River Hydroelectric Project located on the Clackamas River, Clackamas County, Oregon. On June 16, 2006, a draft environmental impact statement (DEIS) was issued for the project. The public was invited to comment on the DEIS. Staff has reviewed and responded to comments received and have prepared a final environmental impact statement (FEIS) for the project.

The FEIS contains staff's analysis of the potential environmental effects of the project and concludes that licensing the project, with staff's recommended measures, would not constitute a major federal action significantly affecting the quality of the human environment. Copies of the FEIS have been sent to federal, state, and local agencies; public interest groups; and individuals on the Commission's mailing list.

A copy of the FEIS is available for review at the Commission's Public Reference Room or may be viewed on the Commission's Web site at http://www.ferc.gov using the “e-Library” link. Enter the docket number (P-2195), to access the document. For assistance, contact FERC Online Support at FERCOnlineSupport@ferc.gov or toll-free at (866) 208-2376, or for TTY, contact (202) 502-8659.

FOR FURTHER INFORMATION CONTACT: John Blair at (202) 502-6092 or at john.blair@ferc.gov.

Magalie R. Salas,
Secretary.

[FR Doc. E6-22361 Filed 12-28-06; 8:45 am]

BILLING CODE 6717-01-P